DEPARTMENT OF THE INTERIOR

Bureau of Ocean Energy Management

[Docket Number: BOEM-2023-0053]

Call for Information and Nominations for Western, Central, and Eastern Gulf of Mexico Outer Continental Shelf Oil and Gas Lease Sales for 2024-2029

AGENCY: Bureau of Ocean Energy Management, Interior

ACTION: Call for information and nominations, request for comments.

SUMMARY: The Bureau of Ocean Energy Management (BOEM) issues this Call for Information and Nominations (Call) covering proposed Gulf of Mexico oil and gas lease sales in the available portions of the Western, Central, and Eastern Gulf of Mexico Planning Areas (WPA, CPA, and EPA, respectively). Those sales are described in the 2024-2029 National Outer Continental Shelf (OCS) Oil and Gas Leasing Program (2024-2029 National OCS Program), which BOEM announced on September 29, 2023. This Call solicits industry nominations of acreage for possible inclusion in future sales and requests information from the public on the Call Area for lease sale planning. Specifically, BOEM seeks information on geological conditions, archaeological sites, potential use conflicts, areas of special concern, and other socioeconomic, biological, and environmental information. This Call is not a final decision to lease and does not prejudge any future secretarial decisions concerning leasing in the Gulf of Mexico.

DATES: All nominations and comments must be received by BOEM or postmarked no later than November 1, 2023.

ADDRESSES:

Public Comment Procedures: All public comments should be submitted through one of the following methods:

1. Federal eRulemaking Portal: http://www.regulations.gov. In the field entitled, “Search,” enter “BOEM-2023-0053” and then click “search.” Follow the instructions to submit public comments and to view supporting and related materials available for this notice.

2. U.S. Postal Service or other delivery service to the following address: Chief of Leasing and Financial Responsibility Section, BOEM, Gulf of Mexico OCS Region, 1201 Elmwood Park Boulevard, Mail Stop GM 266A, New Orleans, Louisiana 70123-2394, telephone (504) 736-7502. Send your comments in an envelope clearly labeled “Comments on the Call for Information and Nominations for 2024-2029 Gulf of Mexico Lease Sales.”

3. Email: BOEMGOMRLeaseSales@boem.gov

Nominations and Indications of Interest Procedures: To ensure security and confidentiality of proprietary information to the maximum extent possible, please send nominations, indications of interest, and other proprietary information to: Chief of Leasing and Financial Responsibility Section, BOEM, Gulf of Mexico OCS Region, 1201 Elmwood Park Blvd., Mail Stop GM 266A, New Orleans, LA 70123-2394, telephone (504) 736-7502. Consistent with subsection 6 in the “Call for Information and Nominations” section of this Call below, you should mark all documents and every page containing such information with “Confidential—Contains Proprietary Information.” Send your nominations in an envelope clearly labeled “Nominations for 2024-2029 Gulf of Mexico Lease Sales.” Do not send nominations, indications of interest, or other proprietary information through the Federal eRulemaking Portal or to the email address provided above.

FOR FURTHER INFORMATION CONTACT: Bridgette Duplantis, Chief of Leasing and Financial Responsibility Section, BOEM, Gulf of Mexico OCS Region, 1201 Elmwood Park Boulevard, Mail Stop GM 266A, New Orleans, Louisiana 70123-2394, telephone (504) 736-7502, email: BOEMGOMRLeaseSales@boem.gov.

SUPPLEMENTARY INFORMATION:

2024-2029 National OCS Program Development: Information on the development of the 2024-2029 National OCS Program and its programmatic environmental impact statement (PEIS) is available on BOEM's website at: https://www.boem.gov/National-OCS-Program/.

Environmental Review Process: BOEM intends to prepare a PEIS, in accordance with the National Environmental Policy Act (NEPA), analyzing a representative Gulf of Mexico proposed lease sale and reasonable alternatives. The PEIS will be supplemented as necessary for individual decisions on all future Gulf of Mexico lease sales included in the 2024-2029 National OCS Program.

The PEIS will evaluate the potential effects that oil and gas activities resulting from a lease sale could have on the human, marine, and coastal environments. The PEIS may propose measures and lease stipulations to mitigate adverse impacts for the alternatives being analyzed. Consultations will be conducted, as appropriate. Consultation with Tribal Nations, States, and Federal agencies address BOEM obligations under the Coastal Zone Management Act, Endangered Species Act, the Magnuson-Stevens Fishery Conservation and Management Act, section 106 of the National Historic Preservation Act, and Executive Order 13175, “Consultation and Coordination with Indian Tribal Governments.” The results of these consultations assist the Secretary in leasing decisions.

BOEM's Leasing Process: BOEM's regulations for planning and holding an oil and gas lease sale are found at 30 CFR 556.300-.309. These regulations include the following steps:

(1) Call for Information and Nominations: See section below.

(2) Area Identification: Based on the information and nominations submitted in response to this Call, BOEM will recommend an area for further leasing consideration and environmental analysis. Upon approval by the Secretary, BOEM will announce the proposed area identified for leasing in the Federal Register, in accordance with 30 CFR 556.302(a)(3).

(3) Proposed Notice of Sale (PNOS): If BOEM proceeds with the leasing process after Area Identification and environmental analysis, it will publish a Notice of Availability of a PNOS in the Federal Register. BOEM also will send the PNOS to the Governors of affected States for comment and recommendations on the size, timing, and location of the proposed sale. The PNOS describes the size, timing, and location of the proposed sale; provides additional information on the areas proposed for leasing; lists proposed lease terms and conditions of the sale; and provides proposed stipulations to mitigate potential adverse impacts on the environment and other uses of the area.

(4) Final Notice of Sale (FNOS): If BOEM decides to proceed with leasing, it will publish a FNOS in the Federal Register at least 30 days before the date of the lease sale. The FNOS describes the place, time, and methods for filing, opening, and publicly announcing bids. It also contains a description of the areas offered for lease, the lease terms and conditions of the sale, and stipulations to mitigate potential adverse impacts on the environment and other uses of the area.

Call for Information and Nominations

1. Authority

This Call is published pursuant to the Outer Continental Shelf Lands Act (OCSLA), as amended (43 U.S.C. 1331-1356) and the implementing regulation at 30 CFR 556.301.

2. Purpose of the Call

The purpose of this Call is twofold. First, this Call solicits industry nominations for areas of leasing interest. Second, this Call requests comments and information from the public on the areas that should be included in the proposed oil and gas lease sales in the Gulf of Mexico included in the 2024-2029 National OCS Program. Pursuant to 30 CFR 556.301, BOEM seeks comments from industry and the public on:

(a) industry interest in the Call Area, including nominations or indications of interest in specific blocks within the Call Area;

(b) geological conditions, including bottom hazards;

(c) archaeological sites on the seabed or near shore;

(d) potential use conflicts in the Call Area, including navigation, recreation, and fisheries;

(e) areas that should receive special concern and analysis; and

(f) other socioeconomic, biological, and environmental information.

BOEM will consider information submitted in response to this Call to:

• inform the Area Identification process under 30 CFR 556.302;

• prioritize areas with higher potential for oil and gas development;

• develop potential lease terms and conditions;

• identify potential use conflicts and potential mitigation measures; and

• assist in BOEM's planning and environmental review process.

3. Description of the Call Area

The Call Area is identical to the Gulf of Mexico (GOM) area included in the 2024-2029 National OCS Program and includes the entire WPA, CPA, and EPA, except areas withdrawn by the President. The Call Area excludes areas withdrawn pursuant to section 12 of OCSLA (43 U.S.C. 1341) by Presidential memoranda dated September 8, 2020, (withdrawing the bulk of the EPA and a portion of the CPA) and July 17, 2008, (withdrawing the Flower Garden Banks National Marine Sanctuary within the boundaries that existed on July 14, 2008).

The WPA is bound on the west and north by the Federal-State boundary offshore Texas. The eastern boundary begins at the offshore boundary between Texas and Louisiana and proceeds southeasterly to 28.43° N latitude, thence south-southwesterly to 27.49° N latitude, thence south-southeasterly to 25.80° N latitude. The WPA is bound on the south by the maritime boundary with Mexico as established by treaties between the United States and Mexico. BOEM is seeking nominations and comments on the entire WPA, which consists of approximately 28.58 million acres, of which approximately 26.45 million acres are currently unleased.

The CPA is bound on the west by the WPA's eastern boundary and on the north by the Federal-State boundaries offshore Louisiana, Mississippi, and Alabama. The eastern boundary of the CPA begins at the offshore boundary between Alabama and Florida and proceeds southeasterly to 26.19° N latitude, thence southwesterly to 25.6° N latitude. The CPA is bound on the south by the maritime boundary with Mexico as established by the “Treaty between the Government of the United States of America and the Government of the United Mexican States on the Delimitation of the Continental Shelf in the Western Gulf of Mexico beyond 200 Nautical Miles,” which took effect in January 2001. BOEM is seeking nominations and comments on the area within the CPA not subject to Presidential withdrawal (approximately 64.47 million acres, of which approximately 56.86 million acres are currently unleased).

The Call Area includes two small sections of the EPA not subject to the 2020 Presidential withdrawal. See https://www.boem.gov/oil-gas-energy/leasing/areas-under-restriction/ for a map and description of the areas under restriction. The first section of the EPA included in the Call and not subject to withdrawal is bound on the west and north by the CPA, on the east by the Military Mission Line (86.68° W longitude), and on the south by blocks that are beyond the U.S. Exclusive Economic Zone in the area known as the northern portion of the Eastern Gap. The second section of the EPA included in the Call and not subject to withdrawal is a triangular-shaped area bound on the north by the southern boundary of the Lease Sale 181 area, on the east by the Military Mission Line (86.68° W longitude), and to the south and west by the CPA boundary. All blocks in both sections are more than 125 miles offshore. BOEM is seeking nominations and comments on these two sections of the EPA. Together, these two sections comprise approximately 1.05 million acres, all of which are currently unleased.

A map depicting the Call Area is available for download on the BOEM website at: http://www.boem.gov/2024-2029/Call-for-Information/. Copies of Official Protraction Diagrams (OPDs) also are available for download on the BOEM website at: https://www.boem.gov/Maps-and-GIS-Data/.

4. Targeted Leasing

BOEM requests comments and nominations for the entire Call Area. However, the GOM hosts many other uses of the OCS, some of which may conflict with oil and gas leasing or associated activities. Therefore, consideration of a targeted leasing approach is warranted.

Under a targeted leasing approach, GOM areas proposed for leasing could be further refined and narrowed based on public input and analysis during the planning and environmental review stages. A targeted leasing approach could, for example, remove biologically sensitive areas, areas that serve as unique habitat, and areas that conflict with other uses of the marine environment, such as those areas used for commercial fishing, sand resources, or future wind energy development. This targeted approach could also offer lease sales in areas with the highest resource potential while appropriately weighing environmental protection and other uses of the ocean and seabed, consistent with OCSLA. A targeted approach could also be considered in light of section 50265(b)(2) of the Inflation Reduction Act. That section requires BOEM to offer at least 60 million OCS acres for oil and gas leasing within the 12 months prior to issuing an offshore wind lease.

BOEM seeks comments on implementing targeted leasing and information on areas of specific interest within the Call Area as it continues analyzing areas most suitable for oil and gas leasing.

5. Instructions on Responding to the Call

BOEM requests parties interested in leasing any whole or partial blocks within the Call Area to indicate their interest in, and comment on, blocks that they would like included in a proposed lease sale. Parties should explicitly nominate whole or partial blocks and rank them using the following indicators: 1 [high], 2 [medium], or 3 [low]. Parties are encouraged to be as specific as possible in prioritizing blocks and supporting nominations with detailed information, such as relevant geologic, geophysical, and economic data. BOEM will consider as low priority areas where interest has been indicated but not prioritized.

Parties may also nominate blocks by OPD and leasing map designations to ensure correct interpretation of their nominations. OPDs and leasing maps are available on BOEM's website at https://www.boem.gov/Maps-and-GIS-Data/.

See subsection 6, “Protection of Privileged, Proprietary, and Personal Information,” regarding protection and release of information and how to submit proprietary information.

BOEM also seeks comments from the public regarding particular geological, environmental, biological, archaeological, and socioeconomic conditions, potential use conflicts, or other information about conditions that could affect the potential leasing and development of particular areas. Comments may refer to broad areas or particular OCS blocks.

6. Protection of Privileged, Proprietary, and Personal Information

BOEM will protect privileged or proprietary information in accordance with the Freedom of Information Act (FOIA) and OCSLA requirements. To avoid inadvertent release of such information, you should mark all documents and every page containing such information with “Confidential—Contains Proprietary Information.” To the extent a document contains a mix of proprietary and nonproprietary information, you should clearly mark the document to indicate which portion of the document is proprietary and which is not. Exemption 4 of FOIA applies to trade secrets and commercial or financial information that you submit that is privileged or confidential. BOEM considers nominations of specific blocks to be proprietary. Therefore, BOEM will not release information that identifies any particular nomination with any particular party, so as not to compromise the competitive position of any participants.

Please be aware that BOEM's practice is to make all other comments, including the names and addresses of individuals, available for public inspection. Before including your address, phone number, email address, or other personally identifiable information in your comment, please be advised that your entire comment, including your personally identifiable information, may be made publicly available at any time. For BOEM to consider withholding from disclosure your personally identifiable information, you must identify, in a cover letter, any information contained in your comments that, if released, would constitute a clearly unwarranted invasion of your personal privacy. You must also briefly describe any possible harmful consequences of the disclosure of information, such as embarrassment, injury, or other harm.

Even if BOEM withholds your information in the context of this Call, your submission is subject to the FOIA. If your submission is requested under the FOIA, your information will only be withheld if BOEM determines that one of the FOIA exemptions to disclosure applies. Such a determination will be made in accordance with the Department's FOIA regulations and applicable law.

BOEM will make available for public inspection all comments, in their entirety, submitted by organizations and businesses (except as provided above for proprietary information) or by individuals identifying themselves as representatives of organizations or businesses.

Elizabeth Klein,
Director, Bureau of Ocean Energy Management.

[FR Doc. 2023-21679 Filed 9-29-23; 8:45 am]

BILLING CODE 4310-MR-P